DEPARTMENT OF HEALTH AND HUMAN SERVICES

National Institutes of Health

Eunice Kennedy Shriver National Institute of Child Health & Human Development; Notice of Meeting

Pursuant to section 10(a) of the Federal Advisory Committee Act, as amended (5 U.S.C. App.), notice is hereby given of a meeting of the National Children's Study Advisory Committee.

The meeting will be open to the public, with attendance limited to space available. Individuals who plan to attend and need special assistance, such as sign language interpretation or other reasonable accommodations, should notify the Contact Person listed below in advance of the meeting.

Name of Committee: National Children's Study Advisory Committee.

Date: July 11, 2014.

Time: 9:00 a.m. to 4:45 p.m.

Agenda: The objectives of the July 2014 NCSAC Meeting are to provide the Committee with an update on the current status of the Vanguard Study, and discuss the Institute of Medicine review of the National Children's Study. The 2013 Appropriations bill required that the NIH contract with the Institute of Medicine to review the proposed methodologies for the NCS Main Study.

Place: National Institutes of Health, Neuroscience Center, 6001 Executive Boulevard, Rockville, MD 20852.

Contact Person: Kate Winseck, Executive Secretary, National Children's Study, National Institute of Child Health and Human Development, NIH, 6100 Executive Blvd., Room 5C01, Bethesda, MD 20892, (301) 594-8625, costelka@mail.nih.gov.

(Catalogue of Federal Domestic Assistance Program Nos. 93.864, Population Research; 93.865, Research for Mothers and Children; 93.929, Center for Medical Rehabilitation Research; 93.209, Contraception and Infertility Loan Repayment Program, National Institutes of Health, HHS)

Information is also available on the Institute's/Center's home page: http://www.nationalchildrensstudy.gov/about/organization/advisorycommittee/Pages/default.aspx, where an agenda and any additional information for the meeting will be posted when available.

Dated: June 10, 2014.
Michelle Trout,
Program Analyst, Office of Federal Advisory Committee Policy.

[FR Doc. 2014-13948 Filed 6-13-14; 8:45 am]

BILLING CODE 4140-01-P